ENVIRONMENTAL PROTECTION AGENCY

[FRL-7973-7]

Notice of Availability of Final NPDES General Permits for Certain Publicly Owned Treatment Works and Other Treatment Works Treating Domestic Sewage in the States of Massachusetts and New Hampshire and Indian Country Lands in the State of Massachusetts

AGENCY: Environmental Protection Agency (EPA).

ACTION: Notice of Availability of Final NPDES General Permits MAG580000 and NHG580000.

SUMMARY: The Director of the Office of Ecosystem Protection, Environmental Protection Agency-Region 1, is today providing notice of availability of the final National Pollutant Discharge Elimination System (NPDES) general permits for certain Publicly Owned Treatment Works (POTWs) and other treatment works treating domestic sewage in the States of Massachusetts and New Hampshire and Indian Country Lands located in the State of Massachusetts. These general permits establish notification requirements, permit eligibility conditions, effluent limitations, standards, and prohibitions for discharges to fresh and marine waters.

Coverage under these general permits is available to facilities in Massachusetts classified as minor facilities and to facilities in New Hampshire classified as major or minor facilities. Owners and/or operators of POTWs and other treatment works treating domestic sewage, including those facilities currently authorized to discharge under individual NPDES permits, are eligible to apply for coverage under the final general permit and will receive a written notification from EPA whether permit coverage and authorization to discharge under one of the general permits is approved. The eligibility requirements, including the requirement that the facility have a dilution factor equal to or greater than 50:1 in the receiving water, are provided in the general permits. These general permits do not cover new sources as defined under 40 CFR 122.2.

DATES: These general permits shall be effective on September 23, 2005 and will expire five years from the effective date.

ADDRESSES: The required notification information to obtain permit coverage is provided for each general permit. This information shall be submitted to EPA-Region 1, Office of Ecosystem Protection (CMP), 1 Congress Street, Suite 1100, Boston, Massachusetts 02114-2023 and to the appropriate State Agency.

FOR FURTHER INFORMATION CONTACT: Additional information concerning the final permits may be obtained between the hours of 8 a.m. and 4 p.m. Monday through Friday excluding holidays from: William Wandle, Office of Ecosystem Protection, Environmental Protection Agency, 1 Congress Street, Suite 1100 (CMP), Boston, MA 02114—2023, telephone: 617-918-1605, e-mail: wandle.bill@epa.gov.

SUPPLEMENTARY INFORMATION: This general permit and the response to comments may be viewed over the Internet via the EPA-Region 1 Web site for dischargers in Massachusetts at http://www.epa.gov/ne/npdes/mass.html and for dischargers in New Hampshire at http://www.epa.gov/ne/npdes/newhampshire.html. The general permits include the freshwater and marine acute toxicity protocols; guidance documents for endangered species, historic properties, and sludge compliance; and standard permit conditions. To obtain a paper copy of the documents, please contact William Wandle using the contact information provided above. A reasonable fee may be charged for copying requests.

Dated: September 15, 2005.
Ira W. Leighton,
Acting Regional Administrator, Region 1.

[FR Doc. 05-19064 Filed 9-22-05; 8:45 am]

BILLING CODE 6560-50-P